DEPARTMENT OF COMMERCE

International Trade Administration

[C-570-063]

Cast Iron Soil Pipe Fittings From the People's Republic of China: Final Results of the Expedited First Sunset Review of the Countervailing Duty Order

AGENCY: Enforcement and Compliance, International Trade Administration, Department of Commerce.

SUMMARY: As a result of this expedited sunset review, the U.S. Department of Commerce (Commerce) finds that revocation of the countervailing duty (CVD) order on cast iron soil pipe fittings (soil pipe fittings) from the People's Republic of China (China) would be likely to lead to continuation or recurrence of countervailable subsidies at the levels indicated in the “Final Results of Sunset Review” section of this notice.

DATES: Applicable November 6, 2023.

FOR FURTHER INFORMATION CONTACT: Henry Wolfe, AD/CVD Operations, Office VIII, Enforcement and Compliance, International Trade Administration, U.S. Department of Commerce, 1401 Constitution Avenue NW, Washington, DC 20230; telephone: (202)-482-0574.

SUPPLEMENTARY INFORMATION:

Background

On August 31, 2018, Commerce published in the Federal Register the CVD order on soil pipe fittings from China.¹ On July 3, 2023, Commerce published the notice of initiation of the first sunset review of the Order, pursuant to section 751(c) of the Tariff Act of 1930, as amended (the Act).² Commerce received a notice of intent to participate from Cast Iron Soil Pipe Institute and its individual members Charlotte Pipe & Foundry and McWane, Inc. (collectively, domestic interested parties) within the deadlines specified in 19 CFR 351.218(d)(1)(i).³ The domestic interested party claimed interested party status under section 771(9)(E) of the Act, and 19 CFR 351.102(b)(17) and (29)(vii) as a trade or business association, a majority of whose members manufacture or produce the domestic like product in the United States.

¹ See Cast Iron Soil Pipe Fittings From the People's Republic of China: Countervailing Duty Order, 83 FR 44566 (August 31, 2018) (Order).

² See Initiation of Five-Year (Sunset) Reviews, 88 FR 42688 (July 3, 2023) (Initiation Notice). In the Initiation Notice, the product is erroneously listed as “Cast Iron Soil Pipe,” but the correct case number for the order on soil pipe fittings is given.

³ See Domestic Interested Parties' Letter, “Cast Iron Soil Pipe Fittings from the People's Republic of China: Notice of Intent to Participate in the First Five-Year Review,” dated July 18, 2023.

On August 2, 2023, Commerce received a complete substantive response for this review from the domestic interested parties within the 30-day deadline specified in 19 CFR 351.218(d)(3)(i).⁴ We did not receive a substantive response from any other interested party in this proceeding, and no party requested a hearing.

⁴ See Domestic Interested Parties' Letter, “Cast Iron Soil Pipe Fittings from the People's Republic of China: Petitioner's Substantive Response to the Notice of Initiation,” dated August 2, 2023 (Substantive Response).

On August 22, 2023, Commerce notified the U.S. International Trade Commission (ITC) that it did not receive an adequate substantive response from respondent interested parties.⁵ As a result, pursuant to section 751(c)(3)(B) of the Act and 19 CFR 351.218(e)(1)(ii)(C)(2), Commerce conducted expedited (120-day) sunset review of the Order.

⁵ See Commerce's Letter, “Sunset Reviews for July 2023,” dated August 22, 2023.

Scope of the Order

The product covered by the Order is cast iron soil pipe fittings, finished and unfinished, regardless of industry or proprietary specifications, and regardless of size. The subject merchandise is currently provided for in item 7307.11.0045 of the Harmonized Tariff Schedule of the United States (HTSUS). Subject merchandise may also enter under HTSUS 7324.29.0000 and 7307.92.3010. Although the HTSUS subheadings are provided for convenience and customs purposes, the written description of the merchandise is dispositive. For a complete description of the scope of the Order, see the Issues and Decision Memorandum.⁶

⁶ See Memorandum, “Issues and Decision Memorandum for the Expedited First Sunset Review of the Countervailing Duty Order of Cast Iron Soil Pipe Fittings from the People's Republic of China,” dated concurrently with, and hereby adopted by, this notice (Issues and Decision Memorandum).

Analysis of Comments Received

All issues raised in this sunset review are addressed in the Issues and Decision Memorandum.⁷ The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

⁷ Id.

Final Results of Sunset Review

Pursuant to sections 751(c)(1) and 752(b) of the Act, Commerce determines that revocation of the Order would be likely to lead to the continuation or recurrence of countervailable subsidies at the following rates:

Producer/exporter | Subsidy rate (percent ad valorem)
Shanxi Xuanshi Industrial Group Co., Ltd | 34.87
Wor-Biz International Trading Co., Ltd. (Anhui) | 7.37
Shijiazhuang Chengmei Import & Export Co., Ltd | 133.94
All Others | 23.28

Administrative Protective Order

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a sanctionable violation.

Notification to Interested Parties

We are issuing and publishing these final results and notice in accordance with sections 751(c), 752(b), and 777(i)(1) of the Act, and 19 CFR 351.218.

Dated: October 31, 2023.
Lisa W. Wang,
Assistant Secretary for Enforcement and Compliance.

Appendix

List of Topics Discussed in the Issues and Decision Memorandum

I. Summary

II. Background

III. Scope of the Order

IV. History of the Order

V. Legal Framework

VI. Discussion of the Issues

. Likelihood of Continuation or Recurrence of a Countervailable Subsidy

2. Net Countervailable Subsidy Rates Likely to Prevail

3. Nature of the Subsidies

VII. Final Results of Review

VIII. Recommendation

[FR Doc. 2023-24476 Filed 11-3-23; 8:45 am]

BILLING CODE 3510-DS-P